DEPARTMENT OF HEALTH AND HUMAN SERVICES

Centers for Disease Control and Prevention

[60Day-14-0907]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to LeRoy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Musculoskeletal Disorder (MSD) Intervention Effectiveness in Material Handling Operations (OMB No. 0920-0907, expires 11/30/2014)—Revision—National Institute for Occupational Safety and Health (NIOSH), Centers for Disease Control and Prevention (CDC).

Background and Brief Description

The mission of the National Institute for Occupational Safety and Health (NIOSH) is to promote safety and health at work for all people through research and prevention. Under Public Law 91-596, sections 20 and 22 (Section 20-22, Occupational Safety and Health Act of 1970), NIOSH has the responsibility to conduct research to advance the health and safety of workers. In this capacity, NIOSH proposes a two-year approval to continue a study to assess the effectiveness and cost-benefit of occupational safety and health (OSH) interventions for musculoskeletal disorders.

NIOSH and the Ohio Bureau of Workers Compensation (OBWC) will continue to collaborate on a multi-site intervention study at OBWC-insured companies from 2014-2016. In overview, MSD engineering control interventions (such as stair-climbing, powered hand trucks, and powered truck lift gates) will be tested for effectiveness in reducing self-reported back and upper extremity pain among 960 employees performing material handling operations in 72 establishments using a prospective experimental design (multiple baselines across groups). The costs of the interventions will be funded through existing OBWC funds and participating establishments.

This study will provide important information that is not currently available elsewhere on the effectiveness of OSH interventions for workers. The study sub-sample will be volunteer employees at OBWC-insured establishments who perform material handling tasks that are expected to be impacted by the engineering control interventions. It is estimated that there will be 960 impacted employees in the recruited establishments, which will be paired according to previous workers compensation loss history and establishment size.

This protocol is changed from the previous data collection in that:

• A Low Back Functional Assessment is no longer being conducted to increase data collection efficiency.

• The study population now includes workers performing material handling tasks in all industries, not just wholesale retail trade. Tested interventions also include a number of material handling engineering controls. These changes were made to increase generalizability of results.

• All employers will now receive the intervention immediately, rather than half being randomly selected to receive the intervention six months later. This change was made to increase participation among employers.

The main outcomes for this study are self-reported low back pain and upper extremity pain collected using surveys every three months over a two-year period from volunteer material handling workers at participating establishments. Individuals will also be asked to report usage of the interventions and material handling exposures every three months over two years. Individuals will also be asked to complete an annual health assessment survey at baseline, and once annually for two years.

In order to maximize efficiency and reduce burden, a choice of web-based or paper survey is proposed for the data collection.

All collected information will be used to determine whether there are significant differences in reported musculoskeletal pain and functional back pain score ratios (pre/post intervention scores), while controlling for covariates. Once the study is completed, results will be made available through the NIOSH internet site and peer-reviewed publications.

The “Self-reported low back pain” and “Self-reported upper extremity pain” forms are collected every three months (9 over two years, or an average of 4.5 per year). The “Self-reported general work environment and health” form is collected at baseline, at the end of the first year and at the end of the second year (3 times over two years, or an average of 1.5 per year). The informed consent form is collected once at the beginning of the study, an average of .5 per year. The early exit interview is collected once for a limited number of participants, an average of .5 per year. There is no cost to respondents other than their time.

In summary, this study will determine the effectiveness of the tested MSD interventions for material handling workers and enable evidence based prevention practices to be shared with the greatest audience possible. NIOSH expects to complete data collection in 2016. The total estimated annual burden hours are 1,364.

Estimated Annualized Burden Hours
Type of respondents | Form name | Number of respondents | Number of responses per respondent | Avg. burden per response (in hrs.) | Total burden (in hrs.)
Material handling workers | Self-reported low back pain | 960 | 4.5 | 5/60 | 360
| Self-reported upper extremity pain | 960 | 4.5 | 5/60 | 360
| Self-reported specific job tasks and safety incidents | 960 | 4.5 | 5/60 | 360
| Self-reported general work environment and health | 960 | 1.5 | 10/60 | 240
| Informed Consent Form (Overall Study) | 960 | .5 | 5/60 | 40
| Early Exit Interview | 106 | .5 | 5/60 | 4
Total |  |  |  |  | 1,364

Leroy Richardson,
Chief, Information Collection Review Office, Office of Scientific Integrity, Office of the Associate Director for Science, Office of the Director, Centers for Disease Control and Prevention.

[FR Doc. 2014-12838 Filed 6-3-14; 8:45 am]

BILLING CODE 4163-18-P